DEPARTMENT OF DEFENSE

Department of the Army, Corps of Engineers

Notice of Intent To Prepare a Joint Draft Environmental Impact Statement/Environmental Impact Report for the Proposed Searsville Watershed Restoration Project, Santa Clara and San Mateo Counties, CA

AGENCY: Department of the Army, U.S. Army Corps of Engineers, DoD.

ACTION: Notice of intent.

SUMMARY: The U.S. Army Corps of Engineers (USACE), San Francisco District, as the lead agency under the National Environmental Policy Act (NEPA), and the California Department of Water Resources (DWR), as the lead agency under the California Environmental Quality Act (CEQA), will prepare a joint Draft Environmental Impact Statement/Environmental Impact Report (EIS/EIR) for the Searsville Watershed Restoration Project, located in San Mateo and Santa Clara Counties, California. Stanford University is the Project Applicant. The EIS/EIR will analyze Stanford's proposed project to modify Searsville Dam and Reservoir and restore reaches of Corte Madera Creek and San Francisquito Creek upstream and downstream of the dam, expand Felt Reservoir, and upgrade the existing San Francisquito Creek pump station. The purpose of the Project is to restore hydrogeomorphic processes, riparian habitat, and fish passage conditions within the upper San Francisquito Creek watershed; to avoid increasing future flood risk associated with Searsville Reservoir filling with sediment, and to replace Searsville Reservoir's historic non-potable water storage and supply while improving seismic safety at Felt Reservoir. The primary Federal involvement associated with the proposed action is the discharge of dredged or fill material into waters of the United States that would require authorization from USACE pursuant to section 404 of the Clean Water Act. Discharge of accumulated sediment from Searsville Reservoir into the lower reaches of San Francisquito Creek would also be subject to section 10 of the Rivers and Harbors Act (RHA) of 1899 in tidal reaches, and section 408 review under section 14 of the RHA in reaches that are currently under study for Federal flood risk management projects.

DATES: Written comments and suggestions must be submitted by March 9, 2023.

ADDRESSES: Written comments and suggestions concerning the scope and content of the EIS/EIR may be submitted to Mr. Greg Brown by email at Gregory.G.Brown@usace.army.mil; or by surface mail at U.S. Army Corps of Engineers, San Francisco District, Regulatory Division, 450 Golden Gate Avenue, 4th Floor, San Francisco, CA 94102-3404. Requests to be placed on the email or surface mail notification lists should also be sent to this address.

FOR FURTHER INFORMATION CONTACT: Mr. Greg Brown at Gregory.G.Brown@usace.army.mil or 415-503-6791.

SUPPLEMENTARY INFORMATION: 1. Proposed Action. Searsville Reservoir is an artificial impoundment created by the construction of Searsville Dam in 1891 on Corte Madera Creek, just upstream of the confluence where it joins with Bear Creek and forms San Francisquito Creek. Stanford owns and operates the Searsville Reservoir and Dam, the San Francisquito Creek Pump Station, and Felt Reservoir and uses these facilities to supply non-potable water for irrigation, stock watering, and fire suppression. Since construction of the dam, Searsville Reservoir has been filling with sediment, and water storage capacity has been reduced from about 1,200 acre-feet to about 100 acre-feet. The reservoir will eventually fill completely with sediment, at which point sediment originating in the upper watershed will pass over the dam and deposit downstream in San Francisquito Creek, increasing the risk of flooding. The EIS/EIR will analyze Stanford's proposed project to modify Searsville Dam and Reservoir (37.4072° N, −122.238° W) and restore reaches of Corte Madera Creek and San Francisquito Creek upstream and downstream of the dam, expand Felt Reservoir (37.3949° N, −122.1856° W), and upgrade the existing San Francisquito Creek pump station (37.4226° N, −122.1883° W).

To address these issues, Stanford has proposed a multi-phase project on Stanford property at Searsville Reservoir and Dam; in Corte Madera and San Francisquito Creeks from Searsville Dam downstream to Interstate 280 in unincorporated San Mateo County; at Felt Reservoir in unincorporated Santa Clara County; and at the San Francisquito Creek Pump Station site which straddles the boundary between San Mateo and Santa Clara counties.

The proposed project includes the following components: (1) constructing a gated tunnel through Searsville Dam to flush a substantial amount of trapped sediment, restore natural sediment transport, reestablish fish passage conditions, and improve ecosystem function; (2) restoring a confluence valley supporting a variety of habitats above Searsville Dam; (3) constructing channel improvements to facilitate fish passage conditions below Searsville Dam, through the proposed tunnel, and in restored creek channels upstream of the dam; (4) constructing sediment trapping, habitat improvement, and bank stabilization features on Corte Madera and San Francisquito Creeks between Searsville Dam and I-280; (5) relocating the existing point of diversion at Searsville Reservoir to the San Francisquito Creek Pump Station site and modifying the Pump Station to accommodate increased diversions to Felt Reservoir; and (6) constructing a new dam at Felt Reservoir and expanding that reservoir's design capacity to a total of 1,800 acre-feet.

2. Alternatives. Multiple alternatives, including the no action alternative and the Applicant's preferred alternative (proposed project) will be evaluated in the EIS/EIR in accordance with current NEPA regulations and guidance, including 33 CFR 230 (USACE NEPA Regulations) and 33 CFR 325, appendix B (NEPA Implementation Procedures for USACE Regulatory Projects). Additional alternatives to be analyzed currently include:

• Dam Removal: implement sediment flushing and restore fish passage and sediment transport by removing Searsville Dam completely.

• Bypass Channel: restore fish passage and sediment transport by constructing a bypass channel around Searsville Dam; accumulated sediment in the reservoir would be left in place.

3. Scoping Process.

a. Affected Federal, State, regional, and local agencies; Native American Tribes; other interested private organizations; and the general public are invited to participate in the scoping process. USACE is requesting identification of potential alternatives, information, and analyses relevant to the proposed action. Questions and written comments can be addressed to the contacts identified above and should be submitted within 30 calendar days of the date of this NOI.

b. The EIS/EIR will analyze the environmental consequences of construction, operation, and maintenance of reasonable alternatives carried forward for detailed analysis. Potentially significant issues to be analyzed include effects on aesthetics and visual resources; air quality and greenhouse gas emissions; biological resources including wetlands and special status species; cultural and tribal cultural resources; energy; environmental justice and socioeconomics; geology, soils and paleontology; hazardous materials and wildfire; flood risk, hydrology, and water quality; land use, agricultural and forestry resources; noise and vibration; population and housing; transportation; and utilities and public services.

c. USACE shall invite the National Marine Fisheries Service to participate as a cooperating agency in the preparation of the EIS/EIR. USACE will also work closely with the DWR, as lead CEQA agency, in the preparation of the joint EIS/EIR.

d. USACE will consult with the State Historic Preservation Officer and with Native American Tribes to comply with the National Historic Preservation Act, and with the U.S. Fish and Wildlife Service (USFWS) and National Marine Fisheries Service (NMFS) to comply with the Endangered Species Act. USACE will also coordinate with the USFWS to comply with the Fish and Wildlife Coordination Act and with NMFS to comply with the Magnuson-Stevens Fishery Conservation and Management Act.

e. Two virtual public scoping meetings will be held in late February or early March 2023 to present information to the public and to receive comments from the public on the proposed project, alternatives, and the scope of the environmental analysis. Dates, weblinks, and other details for the scoping meetings will be posted to the USACE San Francisco District website (https://www.spn.usace.army.mil/Missions/Regulatory/Public-Notices/).

4. Availability of the Draft EIS. The draft EIS is scheduled to be available for public review and comment in October 2023. The decision-making process for the related permitting action will not be completed until all NEPA requirements have been met.

Antoinette R. Gant,
Commanding, U.S. Army.

[FR Doc. 2023-02564 Filed 2-6-23; 8:45 am]

BILLING CODE 3720-58-P